OFFICE OF THE UNITED STATES TRADE REPRESENTATIVE

Request for Public Comments Regarding the Interim Environmental Review of the Trans-Pacific Partnership Agreement

AGENCY: Office of the United States Trade Representative.

ACTION: Notice of availability and request for public comments.

SUMMARY: The Office of the U.S. Trade Representative (USTR), on behalf of the Trade Policy Staff Committee (TPSC), invites written comments from the public on the interim environmental review of the proposed Trans-Pacific Partnership Agreement (TPP). The interim environmental review will be available at: http://www.ustr.gov/trade-topics/environment/environmental-reviews.

DATES: In order to be assured of consideration, comments should be submitted not later than 11:59 p.m., September 25, 2013 to inform the negotiations and the final environmental review of the agreement.

ADDRESSES: Submissions should be made via the Internet at www.regulations.gov docket number USTR-2013-0028. For alternatives to on-line submissions please contact Yvonne Jamison (202-395-3475). The public is strongly encouraged to file submissions electronically rather than by facsimile or mail.

FOR FURTHER INFORMATION CONTACT: Questions regarding the submission of comments in response to this notice should be directed to Yvonne Jamison at (202) 395-3475. Questions concerning the interim environmental review should be addressed to David Oliver at (202) 395-7320.

SUPPLEMENTARY INFORMATION: The Trade Act of 2002 provides that the President shall conduct environmental reviews of certain international trade agreements consistent with Executive Order 13141-Environmental Review of Trade Agreements (64 FR 63,169, Nov. 18, 1999) and its implementing guidelines (65 FR 79,442, Dec. 19, 2000) and report on such reviews to the Committee on Ways and Means of the House of Representatives and the Committee on Finance of the Senate. The Executive Order and guidelines are available at: http://www.ustr.gov/trade-topics/environment/environmental-reviews. The purpose of environmental reviews is to ensure that policymakers and the public are informed about reasonably foreseeable environmental impacts of trade agreements (both positive and negative), to identify complementarities between trade and environmental objectives, and to help shape appropriate responses if environmental impacts are identified. Reviews are intended to be one tool, among others, for integrating environmental information and analysis into the fluid, dynamic process of trade negotiations. USTR and the Council on Environmental Quality jointly oversee implementation of the Order and Guidelines. USTR, through the Trade Policy Staff Committee (TPSC), is responsible for conducting the individual reviews.

Requirements for Submissions: Persons submitting comments must do so in English and must indicate (on the first page of the submission) “Comments Regarding the TPP Interim Environmental Review.” In order to be assured of consideration, comments should be submitted by 11:59 p.m., September 25, 2013. In order to ensure the timely receipt and consideration of comments, USTR strongly encourages commenters to make on-line submissions, using the www.regulations.gov Web site. To submit comments via www.regulations.gov, enter docket number USTR-2013-0028 on the home page and click “search.” The site will provide a search-results page listing all documents associated with this docket. Find a reference to this notice and click on the link entitled “Comment Now!” (For further information on using the www.regulations.gov Web site, please consult the resources provided on the Web site by clicking on “How to Use This Site” on the left side of the home page).

The www.regulations.gov Web site allows users to provide comments by filling in a “Type Comment” field, or by attaching a document using an “Upload File” field. USTR prefers that comments be provided in an attached document. USTR prefers submissions in Microsoft Word (.doc) or Adobe Acrobat (.pdf). If the submission is in an application other than those two, please indicate the name of the application in the “Type Comment” field.

For any comments submitted electronically containing business confidential information, the file name of the business confidential version should begin with the characters “BC”. Any page containing business confidential information must be clearly marked “BUSINESS CONFIDENTIAL” on the top of that page. Filers of submissions containing business confidential information must also submit a public version of their comments. The file name of the public version should begin with the character “P”. The “BC” and “P” should be followed by the name of the person or entity submitting the comments. Filers submitting comments containing no business confidential information should name their file using the name of the person or entity submitting the comments.

Please do not attach separate cover letters to electronic submissions; rather, include any information that might appear in a cover letter in the comments themselves. Similarly, to the extent possible, please include any exhibits, annexes, or other attachments in the same file as the submission itself, not as separate files.

As noted, USTR strongly urges submitters to file comments through the www.regulations.gov Web site if at all possible. Any alternative arrangements must be made with Ms. Jamison in advance of transmitting a comment. Ms. Jamison may be contacted at (202) 395-3475. General information concerning USTR is available at www.ustr.gov.

Comments will be placed in the docket and open to public inspection, except business confidential information. Comments may be viewed on the www.regulations.gov Web site by entering the relevant docket number in the search field on the home page.

William Shpiece,
Acting Chair, Trade Policy Staff Committee.

[FR Doc. 2013-20930 Filed 8-27-13; 8:45 am]

BILLING CODE 3290-F3-P